ENVIRONMENTAL PROTECTION AGENCY

Agency Information Collection Activities: Proposed Collection; Comment Request; Assessment of Indoor Air Quality Outreach Products and Services, EPA ICR Number 2190.01; Correction

AGENCY: Environmental Protection Agency.

ACTION: Notice; correction.

SUMMARY: The Environmental Protection Agency published a notice in the Federal Register of July 16, 2005, concerning a request for comments on an information collection request regarding the assessment of indoor air quality outreach products and services. The document contained an incorrect date.

FOR FURTHER INFORMATION CONTACT: John M Hall, 202-343-9453.

Correction

In the Federal Register of July 16, 2005, in FR Doc. 05-16221, on page 48130, in the first column, correct the DATE caption to read:

DATES: Comments must be submitted on or before October 15, 2005.

Dated: July 18, 2005.
Thomas E. Kelly,
Director, Indoor Environments Division, Environmental Protection Agency.

[FR Doc. 05-16934 Filed 8-24-05; 8:45 am]

BILLING CODE 6560-50-P